DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: Quarterly Survey of State and Local Government Tax Revenue.

Form Number(s): F-71, F-72, F-73.

Agency Approval Number: 0607-0112.

Type of Request: Extension of a currently approved collection.

Burden: 5,661 hours.

Number of Respondents: 5,610.

Avg Hours Per Response: F-71 & F-73—15 minutes; F-72—30 minutes.

Needs and Uses: The Census Bureau requests an extension of the current expiration date of the Quarterly Survey of State and Local Government Tax Revenue to ensure accurate collection of information about state and local government tax collections. These tax collections, amounting to nearly $900 billion annually, constitute almost one-half of all governmental revenues. Quarterly measurement of, and reporting on, these massive fund flows provides valuable insight into trends in the national economy and that of individual states. Information collected on the type and quantity of taxes collected gives comparative data on how the various levels of government fund their public sector obligations. These data are included in the quarterly estimates of National Income and Product Accounts developed by the Bureau of Economic Analysis and are widely used by state revenue and tax officials, academicians, media representatives, and others.

The Census Bureau uses the three information collection forms to collect state and local government tax data for this long established data series. The Bureau of Economic Analysis, the Federal Reserve Board, the Department of Treasury, and others rely on these data to provide the most current information on the financial status of state and local governments.

Legislators, policy makers, administrators, analysts, economists, and researchers use the data to monitor trends in public sector revenues. Journalists, teachers, and students use the data as well.

Tax collection data are used to measure economic activity for the Nation as a whole, as well as for comparison among the various states. These data are also useful in comparing the mix of taxes employed by individual states, and in determining the revenue raising capacity of different types of states.

Affected Public: State, Local or Tribal Government.

Frequency: Quarterly.

Respondent's Obligation: Voluntary.

Legal Authority: Title 13 U.S.C., section 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov). Written comments and recommendations for the proposed information collection should be sent within 30 days of publication of this notice to Susan Schechter, OMB Desk Officer either by fax (202-395-7245) or e-mail (susan_schechter@omb.eop.gov).

Dated: March 6, 2006.
Madeleine Clayton,
Management Analyst, Departmental Paperwork Clearance Officer.

[FR Doc. E6-3415 Filed 3-9-06; 8:45 am]

BILLING CODE 3510-07-P